NATIONAL AERONAUTICS AND SPACE ADMINISTRATION

[Notice: (20-013)]

NASA Advisory Council; Human Explorations and Operations Committee; Meeting

AGENCY: National Aeronautics and Space Administration.

ACTION: Notice of meeting.

SUMMARY: In accordance with the Federal Advisory Committee Act, the National Aeronautics and Space Administration (NASA) announces a meeting of the Human Exploration and Operations Committee of the NASA Advisory Council (NAC). This Committee reports to the NAC.

DATES: Tuesday, March 3, 2020, 1:00 p.m.-6:00 p.m.; and Wednesday, March 4, 2020, 8:30 a.m.-4:00 p.m. All times listed are Eastern Time.

ADDRESSES: NASA Headquarters, Room 8Q40, 300 E Street SW, Washington, DC 20546.

FOR FURTHER INFORMATION CONTACT: Dr. Bette Siegel, Human Exploration and Operations Mission Directorate, NASA Headquarters, Washington, DC 20546, (202) 358-2245, or bette.siegel@nasa.gov.

SUPPLEMENTARY INFORMATION: The meeting will be open to the public up to the seating capacity of the room. This meeting is also available telephonically and by WebEx. You must use a touch-tone phone to participate in this meeting. Any interested person may dial the USA toll-free conference call number 1-800-593-9971 or toll number 1-517-308-9316, passcode: 4648477, to participate in the meeting on both days. The WebEx link is https://nasaenterprise.webex.com; the meeting number is 900 509 394, password is Exploration2020# (case sensitive) for both days.

The agenda for the meeting includes the following topics:

—Human Exploration and Operations Update

—Budget

—Advanced Exploration Systems

—Gateway

—Exploration Systems Development

—International Space Station

Commercial Crew Attendees will be requested to sign a register and to comply with NASA Headquarters security requirements, including the presentation of a valid picture ID to Security before access to NASA Headquarters. Foreign nationals attending this meeting will be required to provide a copy of their passport and visa in addition to providing the following information no less than 10 days prior to the meeting: Full name; gender; date/place of birth; citizenship, passport information (number, country, telephone); visa information (number, type, expiration date); employer/affiliation information (name of institution, address, country, telephone) title/position of the position of attendee. To expedite admittance, U.S. citizens and Permanent Residents (green card holders) are requested to provide full name and citizenship status no less 3 working days in advance.

Note: As a precaution, individuals returning from China will not allowed into NASA Headquarters until the 14 days of observation and self-care period has expired, and they are determined not to be infectious. Attendees to the NAC Human Explorations and Operations Committee meeting who are returning from China should only participate virtually through the provided dial-in audio and WebEx, until the 14 days of observation and self-care period has expired.

It is imperative that the meeting be held on this date to accommodate the scheduling priorities of the key participants.

Patricia Rausch,
Advisory Committee Management Officer, National Aeronautics and Space Administration.

[FR Doc. 2020-02956 Filed 2-13-20; 8:45 am]

BILLING CODE 7510-13-P